DEPARTMENT OF ENERGY

Federal Energy Regulatory Commission

P-13174-000]

Davis Hydro, LLC.; Notice of Application for Preliminary Permit Accepted for Filing and Soliciting Comments, Motions To Intervene, and Protests

August 4, 2008.

On April 16, 2008, Davis Hydro LLC. filed an application, pursuant to section 4(f) of the Federal Power Act (FPA), to study the feasibility of Boca Power Project. The proposed project would be located on the Little Truckee River in Nevada County, California. The existing facilities are owned and operated by the Bureau of Reclamation.

The proposed project using the existing Bureau of Reclamation Boca Power Project would consist of: (1) A proposed approximately eight-foot-long 50-inch diameter penstock, (2) a proposed powerhouse, containing one generating unit with an installed capacity of 1.125 megawatts, (3) a proposed 2,000-foot-long, 12 kilovolt transmission line, and (4) appurtenant facilities. The proposed project would have an average annual generation of 5 gigawatt-hours and be sold to a local utility.

Applicant Contact: Richard D. Ely, Principal, Davis Hydro LLC., 27264 Meadowbrook Drive, Davis, California 95618, (530) 753-8864, Dick@davishydro.com.

FERC Contact: Jake Tung, (202) 502-8757.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of the Commission's Web site at http://www.ferc.gov/docs-filing/elibrary.asp. Enter the docket number (P-13177) in the docket number field to access the document. For assistance, call toll-free 1-866-208-3372.

Kimberly D. Bose,
Secretary.

[FR Doc. E8-18376 Filed 8-8-08; 8:45 am]

BILLING CODE 6717-01-P